DEPARTMENT OF VETERANS AFFAIRS

Privacy Act of 1974; Computer Matching Program Between the Department of Veterans Affairs and the United States Postal Service

AGENCY: Department of Veterans Affairs.

ACTION: Notice of computer matching program.

Notice is hereby given that the Department of Veterans Affairs (VA) and the United States Postal Service (USPS) propose to conduct a computer matching program. The purpose of the match is to identify and locate USPS employees who owe delinquent debts to the Federal Government as a result of their participation in benefit programs administered by VA. Once identified and located, VA will pursue collection of debts through voluntary payments. If such payments are not forthcoming, VA may request USPS to offset up to 15 percent of the employees' disposable pay as authorized under the provisions of the Debt Collection Act of 1982.

The Debt Collection Improvement Act of 1996 [as codified at 5 U.S.C. 5514(a)] requires Federal creditor agencies to participate in computer matching to identify Federal employees who are delinquent in repayment of debts owed those agencies. VA and USPS have conducted an agreement to conduct the matching program pursuant to provisions to the Privacy Act of 1974, as amended (5 U.S.C. 552a(o)). USPS will act as recipient (i.e., matching) agency. VA will provide a tape extract to USPS containing the name and social security number (SSN) of each record subject. USPS will compare the tape extract against its database of employee records, establishing “hits” (i.e., individuals common to both tapes) on the basis of matched SSNs. For each hit, USPS will disclose to VA the following information: Name, SSN, home address, and employee type (permanent or temporary).

Records to be Matched: The systems of records maintained by the respective agencies from which records will be disclosed for this computer match are as follows:

USPS: Finance Records-Payroll System (USPS 050.020) containing records of approximately 800,000 employees. Disclosure will be made under routine use 24 of that system, a full description of which was last published at 57 FR 57515 (December 4, 1992).

VA: Accounts Receivable Records-VA (88VA244) containing records of approximately 200,000 debtors. Disclosure will be made under routine use No. 7 of that system, a full description of which was last published in 63 FR 16864 on April 6, 1998.

The matching program is expected to begin on or about August 28, 2000, and continue in effect for 18 months. The agreement governing the matching program may be extended an additional 12 months with the respective approval of VA's and USPS' Data Integrity Boards. Such extension must occur within 3 months prior to expiration of the 18-month period set forth above and under the terms set forth in 5 U.S.C. 552a(o)(2)(D).

ADDRESSES: Interested persons are invited to submit written comments, suggestions, or objections regarding the proposal to conduct the matching program to the Director, Office of Regulations Management (02D), Department of Veterans Affairs, 810 Vermont Avenue, NW., Room 1154, Washington, DC 20420. All relevant material received before August 28, 2000 will be considered. All written comments received will be available for public inspection in the Office of Regulations Management, Room 1158, 810 Vermont Avenue, NW., Washington, DC 20420, between 8 a.m. and 4:30 p.m., Monday through Friday, except holidays.

FOR FURTHER INFORMATION CONTACT: Patricia Schultz, Debt Management Center (389), Department of Veterans Affairs, Bishop Henry Whipple Federal Building, 1 Federal Drive, Ft. Snelling, Minnesota 55111, (612) 970-5700.

SUPPLEMENTARY INFORMATION: This information is required by the Privacy Act of 1974, as amended (5 U.S.C. 552a(e)(12)). A copy of this notice has been provided to both Houses of Congress and OMB.

Approved: July 17, 2000.
Togo D. West, Jr.,
Secretary of Veterans Affairs.

[FR Doc. 00-19170 Filed 7-27-00; 8:45 am]

BILLING CODE 8320-01-M